ENVIRONMENTAL PROTECTION AGENCY

[FRL-7883-1]

Clean Water Act Section 303(d): Final Agency Action on 13 Total Maximum Daily Loads (TMDLs)

AGENCY: Environmental Protection Agency (EPA).

ACTION: Notice of availability.

SUMMARY: This notice announces final agency action on 13 TMDLs prepared by EPA Region 6 for waters listed in the State of Arkansas, under section 303(d) of the Clean Water Act (CWA). These TMDLs were completed in response to the lawsuit styled Sierra Club, et al. v. Clifford, et al., No. LR-C-99-114. Documents from the administrative record files for the final 13 TMDLs, including TMDL calculations and responses to comments, may be viewed at http://www.epa.gov/earth1r6/6wq/artmdl.htm.

ADDRESSES: The administrative record files for these 13 TMDLs may be obtained by writing or calling Ms. Diane Smith, Environmental Protection Specialist, Water Quality Protection Division, U.S. Environmental Protection Agency Region 6, 1445 Ross Ave., Dallas, TX 75202-2733. Please contact Ms. Smith to schedule an inspection.

FOR FURTHER INFORMATION CONTACT: Diane Smith at (214) 665-2145.

SUPPLEMENTARY INFORMATION: In 1999, five Arkansas environmental groups, the Sierra Club, Federation of Fly Fishers, Crooked Creek Coalition, Arkansas Fly Fishers, and Save our Streams (plaintiffs), filed a lawsuit in Federal Court against the EPA, styled Sierra Club, et al. v. Clifford, et al., No. LR-C-99-114. Among other claims, plaintiffs alleged that EPA failed to establish Arkansas TMDLs in a timely manner.

EPA Takes Final Agency Action on 13 TMDLs

By this notice EPA is taking final agency action on the following 13 TMDLs for waters located within the State of Arkansas:

Segment-reach | Waterbody name | Pollutant
08050001-022 | Big Bayou | Siltation/turbidity.
08050001-022 | Big Bayou | Chloride.
08050001-018 | Boeuf River | Siltation/turbidity.
08050001-018 | Boeuf River | Chloride.
08050001-018 | Boeuf River | Sulfates.
08050001-018 | Boeuf River | TDS.
08050001-019 | Boeuf River | Siltation/turbidity.
08050001-019 | Boeuf River | Chloride.
08050002-010 | Oak Log Bayou | Siltation/turbidity.
08050002-010 | Oak Log Bayou | Chloride.
08050002-010 | Oak Log Bayou | TDS.
08050002-003 | Bayou Macon | Siltation/turbidity.
08050002-006 | Bayou Macon | Siltation/turbidity.

EPA requested the public to provide EPA with any significant data or information that may impact the 13 TMDLs at Federal Register Notice: Volume 70, Number 6, pages 1710-1711 (January 10, 2005). No comments were received.

Dated: March 3, 2005.
Miguel I. Flores,
Director, Water Quality Protection Division, Region 6.

[FR Doc. 05-4711 Filed 3-9-05; 8:45 am]

BILLING CODE 6560-50-P